DEPARTMENT OF THE INTERIOR

National Park Service

[NPS-WASO-NAGPRA-NPS0023996; PPWOCRADN0-PCU00RP14.R50000]

Notice of Inventory Completion: Department of Anthropology, The University of Tulsa, Tulsa, OK

AGENCY: National Park Service, Interior.

ACTION: Notice.

SUMMARY: The Department of Anthropology, The University of Tulsa, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, The University of Tulsa. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, The University of Tulsa, at the address in this notice by October 23, 2017.

ADDRESSES: Dr. Thomas Foster, Department of Anthropology, The University of Tulsa, Harwell Hall, Tulsa, OK 74104, telephone (918) 631-3082, email thomas-foster@utulsa.edu.

SUPPLEMENTARY INFORMATION: Notice is here given in accordance with the Native American Graves Protection and Repatriation Act (NAGPRA), 25 U.S.C. 3003, of the completion of an inventory of human remains under the control of the Department of Anthropology, The University of Tulsa. The human remains were removed from Craighead County, AR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology, The University of Tulsa, professional staff in consultation with representatives of The Quapaw Tribe of Indians.

History and Description of the Remains

From 1964 to 1968, human remains representing, at minimum, 21 individuals were removed from the McDuffie or MacDuffie site (3CG21) in Craighead County, AR. These human remains were likely obtained by the Department of Anthropology at The University of Tulsa from the Gilcrease Museum in Tulsa, OK, which obtained artifacts and human remains from the site in 1982. The human remains represent three adult females, three adult males, ten adults of indeterminate sex, one juvenile of indeterminate sex, and four infants. No known individuals were identified. No associated funerary objects are present.

According to the Gilcrease Museum records, the McDuffie site (3CG21) is located near the town of Lunsford in Craighead County, AR. Excavation records indicate that the site consisted of a large village with two mounds. Non-destructive analysis indicates that the human remains are Native American. Cultural items associated with the human remains have been determined to date to the Middle Mississippian period (A.D. 1170-1300). Oral history evidence presented by representatives of The Quapaw Tribe of Indians indicates that the region has long been included in their traditional and hunting territory. French colonial records from 1700 also indicate that the Quapaw were known at that time to be the only Native American group present in the St. Francis River valley region where the McDuffie site is located. Based on the geographical location and the date of interment, the human remains are most likely to be culturally affiliated with The Quapaw Tribe of Indians.

Determinations Made by the Department of Anthropology, The University of Tulsa

Officials of the Department of Anthropology, The University of Tulsa, have determined that:

• Pursuant to 25 U.S.C. 3001(9), the human remains described in this notice represent the physical remains of 21 individuals of Native American ancestry.

• Pursuant to 25 U.S.C. 3001(2), there is a relationship of shared group identity that can be reasonably traced between the Native American human remains and The Quapaw Tribe of Indians.

Additional Requestors and Disposition

Lineal descendants or representatives of any Indian Tribe or Native Hawaiian organization not identified in this notice that wish to request transfer of control of these human remains should submit a written request with information in support of the request to Dr. Thomas Foster, Department of Anthropology, The University of Tulsa, Harwell Hall, Tulsa, OK 74104, telephone (918) 631-3082, email thomas-foster@utulsa.edu, by October 23, 2017. After that date, if no additional requestors have come forward, transfer of control of the human remains to The Quapaw Tribe of Indians may proceed.

The Department of Anthropology, The University of Tulsa, is responsible for notifying The Quapaw Tribe of Indians that this notice has been published.

Dated: August 14, 2017.
Sarah Glass,
Acting Manager, National NAGPRA Program.

[FR Doc. 2017-20301 Filed 9-21-17; 8:45 am]

BILLING CODE 4312-52-P